DEPARTMENT OF TRANSPORTATION

Federal Highway Administration

[Docket No. FHWA-2020-0010]

Re-Designation of the Primary Highway Freight System (PHFS)

AGENCY: Federal Highway Administration (FHWA), U.S. Department of Transportation (DOT).

ACTION: Notice of extension of comment period.

SUMMARY: The FHWA is extending the comment period for the Re-Designation of the PHFS notice. The original comment period is set to close on October 25, 2021. The extension is based on input received from DOT stakeholders that the October 25 closing date does not provide sufficient time for submission of comments to the docket. The FHWA agrees that the comment period should be extended. Therefore, the closing date for submission of comments is extended to December 15, 2021, which will provide others interested in commenting additional time to submit comments to the docket.

DATES: The comment period for the notice published August 26, 2021, at 86 FR 47705, is extended. Comments must be received on or before December 15, 2021.

ADDRESSES: Interested parties are invited to submit comments identified by DOT Docket ID FHWA-2020-0010 by any of the following methods:

Website: For access to the docket to read background documents or comments received, go to the Federal eRulemaking Portal: www.regulations.gov. Follow the online instructions for submitting comments.

Fax: 1-202-493-2251.

Mail: Docket Management Facility, U.S. Department of Transportation, West Building Ground Floor, Room W12-140, 1200 New Jersey Avenue SE, Washington, DC 20590.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Questions may be addressed to Birat Pandey, birat.pandey@dot.gov, 202-366-2842, Office of Freight Management & Operations (HOFM-1), Office of Operations, FHWA, U.S. Department of Transportation, 1200 New Jersey Avenue SE, Washington, DC 20590. Office hours are from 7:30 a.m. to 4:00 p.m., Monday through Friday, except Federal holidays.

SUPPLEMENTARY INFORMATION:

Background

On August 26, 2021, at 86 FR 47705, FHWA published in the Federal Register a notice on the re-designation of the PHFS pursuant to 23 U.S.C. 167(d)(2).

Each re-designation of the network may increase the mileage on the PHFS by not more than 3 percent of the total mileage of the system. The current PHFS consists of 41,518 centerline miles of roadway and is a component of the National Highway Freight Network. The re-designation initiated through this notice may add up to 1,246 miles of additional mileage to the current PHFS. Please be advised that this notice and process is not related to prior notices and processes for the designation of the National Multimodal Freight Network at 81 FR 36381 (June 6, 2016) and 82 FR 49478 (October 25, 2017).

State Freight Advisory Committees, represented by their States, are invited to submit comments. Other entities are encouraged to engage directly with their State Freight Advisory Committee or the State department of transportation.

The original comment period for the notice closes on October 25, 2021. However, DOT stakeholders have expressed concern that this closing date does not provide sufficient time for submission of comments to the docket. To allow time for interested parties to submit comments, the closing date is changed from October 25, 2021, to December 15, 2021.

(Authority: 23 U.S.C. 167(d))

Stephanie Pollack,
Acting Administrator, Federal Highway Administration.

[FR Doc. 2021-23130 Filed 10-22-21; 8:45 am]

BILLING CODE 4910-22-P